DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons whose property and interests in property have been unblocked and who have been removed from the Specially Designated Nationals and Blocked Persons List.

DATES: This action was issued on January 13, 2025. See Supplementary Information for relevant dates.

FOR FURTHER INFORMATION CONTACT: OFAC: Associate Director for Global Targeting, 202-622-2420; the Assistant Director for Sanctions Compliance, 202-622-2490 or https://ofac.treasury.gov/contact-ofac.

SUPPLEMENTARY INFORMATION:

Electronic Availability

The Specially Designated Nationals and Blocked Persons List (SDN List) and additional information concerning OFAC sanctions programs are available on OFAC's website: https://ofac.treasury.gov.

Notice of OFAC Actions

On January 13, 2025, OFAC removed from the SDN List the persons listed below, whose property and interests in property were blocked pursuant to section 1 of Executive Order 13850 of November 1, 2018, “Blocking Property of Additional Persons Contributing to the Situation in Venezuela,” as amended by Executive Order 13857 of January 25, 2019, “Taking Additional Steps To Address the National Emergency With Respect to Venezuela.”

Individuals

1. BAZZONI, Alessandro, Via Cantonale 8, Lugano 6900, Switzerland; DOB 09 Jul 1971; POB Milan, Italy; citizen Italy; Gender Male; Passport YA9636063 (Italy) issued 12 Jul 2016 expires 11 Jul 2026 (individual) [VENEZUELA-EO13850].

2. D'AGOSTINO CASADO, Francisco Javier, Calle El Parque. Res. Campo Alegre Plaza, Piso 5. Urb. Campo Alegre, Caracas, Miranda 1060, Venezuela; DOB 02 Jun 1974; POB Caracas, Venezuela; nationality Spain; citizen Spain; alt. citizen Venezuela; Gender Male; Cedula No. V-11307398 (Venezuela); Passport XDC221294 (Spain) issued 18 Sep 2015 expires 11 Jul 2018; National ID No. R.E. 201000798316 (Spain) (individual) [VENEZUELA-EO13850].

Entities

1. CATALINA HOLDINGS CORP., New York, NY 10107-1706, United States; Company Number 3934472 (New York) (United States) [VENEZUELA-EO13850].

2. D'AGOSTINO & COMPANY, LTD (a.k.a. D'AGOSTINO AND COMPANY, LTD), Torre Dayco, Piso PH, Caracas, Venezuela; Organization Type: Other financial service activities, except insurance and pension funding activities, n.e.c. [VENEZUELA-EO13850].

3. ELEMENT CAPITAL ADVISORS LIMITED, Avenida Federico Boyd con Calle 49, Edificio Alfaro Piso 4 Oficina 4-A, Apartado 0832-00998, Panama City, Panama; Virgin Islands, British; website www.element-capital.com; Nationality of Registration Virgin Islands, British; Organization Type: Other financial service activities, except insurance and pension funding activities, n.e.c.; Company Number 1476279 (Virgin Islands, British) [VENEZUELA-EO13850].

4. ELEMENTO OIL & GAS LTD (a.k.a. ELEMENTO OIL AND GAS LTD), 35 Strait Street, Valletta VLT 1434, Malta; Company Number C 73377 (Malta) [VENEZUELA-EO13850].

5. JAMBANYANI SAFARIS, 364 Gibson Road, Victoria Falls, Zimbabwe; P.O. Box 155, Victoria Falls, Zimbabwe; website www.jambanyani.com; Organization Established Date 28 Sep 2019; Organization Type: Tour operator activities [VENEZUELA-EO13850].

6. 82 ELM REALTY LLC, 450 Park Avenue, Ste 1403, New York, NY 10022, United States; Company Number 3848561 (New York) (United States) [VENEZUELA-EO13850].

Lisa M. Palluconi,
Acting Director, Office of Foreign Assets Control.

[FR Doc. 2025-01119 Filed 1-16-25; 8:45 am]

BILLING CODE 4810-AL-P